DEPARTMENT OF COMMERCE

National Oceanic and Atmospheric Administration

Final Revised Management Plan for the Grand Bay National Estuarine Research Reserve

AGENCY: Office for Coastal Management, National Ocean Service, National Oceanic and Atmospheric Administration, U.S. Department of Commerce.

ACTION: Notice of approval of the final revised management plan for the Grand Bay National Estuarine Research Reserve.

SUMMARY: Notice is hereby given that the Office for Coastal Management, National Ocean Service, National Oceanic and Atmospheric Administration, U.S. Department of Commerce approves the revised management plan for the Grand Bay National Estuarine Research Reserve in Mississippi. In accordance with the Coastal Zone Management Act and its implementing regulations, the Mississippi Department of Marine Resources revised the Grand Bay Reserve's management plan, which replaces the plan previously approved in 2018.

ADDRESSES: The approved Grand Bay Reserve management plan can be downloaded or viewed at https://grandbaynerr.org/management-plan/. The document is also available by sending a written request to the point of contact identified below (see FOR FURTHER INFORMATION).

FOR FURTHER INFORMATION CONTACT: Contact Matt Chasse of NOAA's Office for Coastal Management, by email at matt.chasse@noaa.gov, or phone at 240-628-5417.

SUPPLEMENTARY INFORMATION: Pursuant to 15 CFR 921.33(c), a State must revise the management plan for a research reserve at least every five years. Changes to a reserve's management plan may be made only after receiving written approval from NOAA. NOAA approves changes to management plans via notice in the Federal Register. On February 2, 2022, NOAA issued a notice in the Federal Register announcing a thirty-day public comment period for the proposed revision of the management plan for the Grand Bay National Estuarine Research Reserve (87 FR 5799). Appendix 16 of the plan contains a summary of written and oral comments received, and an explanation of how comments were incorporated into the final version of the management plan.

The management plan outlines the reserve's strategic goals and objectives; administrative structure; programs for conducting research and monitoring, education, and training; resource protection, restoration, and manipulation plans; public access and visitor use plans; consideration for future land acquisition; and facility development to support reserve operations. In particular, this updated management plan focuses on addressing specific research priorities including restoration effectiveness monitoring; understating physical and hydrological processes within the reserve; sources and impacts of contaminants; and the socio-economic impacts of ecosystem restoration. There is also an added focus related to monitoring programs as a valued regional and national reference site through the use of abiotic parameters, sentinel sites, atmospheric mercury, and restoration monitoring. Furthermore, the plan prioritizes improving public access and the visitor experience through enhanced trail and debris management efforts, and a greater focus on habitat restoration, especially upland habitats (wet pine savannas and flatwoods) and along the marsh upland interface. Much of the effort in this plan is linked to the multi-year Grand Bay Land Acquisition and Habitat Management project.

The reserve's training program will design trainings around priority issues and a new focus area: transferring skills and knowledge relating to flood mitigation to nearby disadvantaged communities. Education programming will have a continued emphasis on place-based learning for students, teachers, non-traditional audiences (i.e., artists, veterans, seniors and others). New, non-traditional audiences will be added with programs that focus on pre-K audiences, people with disabilities, additional programs for seniors, and other groups. These new programs will create opportunities for people who do not typically use the reserve or participate in reserve events.

Since the last management plan, the reserve has prioritized the comprehensive management of upland and estuarine resources at a landscape scale. Public trails were created or maintained, and boat access was improved. The reserve also has actively used fire management to restore wet pine savanna in collaboration with State and Federal partners. The revised management plan will serve as the guiding document for the 18,049-acre research reserve for the next five years.

Furthermore, no reserve boundary or acreage changes are incorporated into the updated management plan.

NOAA reviewed the environmental impacts of the Grand Bay revised management plan and determined that this action is categorically-excluded from further analysis under the National Environmental Policy Act, consistent with NOAA Administrative Order 216-6A.

Authority: 16 U.S.C. 1451 et seq.; 15 CFR 921.33.

John R. King,
Chief, Business Operations Division, Office for Coastal Management, National Ocean Service, National Oceanic and Atmospheric Administration.

[FR Doc. 2023-13673 Filed 6-27-23; 8:45 am]

BILLING CODE 3510-NK-P